NATIONAL SCIENCE FOUNDATION

Sunshine Act Meetings

The National Science Board's Executive Committee hereby gives notice of the scheduling of a teleconference for the transaction of National Science Board business, pursuant to the National Science Foundation Act and the Government in the Sunshine Act.

TIME AND DATE: Tuesday, April 5, 2022, from 2:00-3:00 p.m. EDT.

PLACE: This meeting will be held by teleconference through the National Science Foundation.

STATUS: Open.

MATTERS TO BE CONSIDERED: Committee Chair's opening remarks; approval of Executive Committee minutes of January 26, 2022; and discuss issues and topics for an agenda of the NSB meeting scheduled for May 5-6, 2022.

CONTACT PERSON FOR MORE INFORMATION: Point of contact for this meeting is: Nirmala Kannankutty, 703/292-8000. Members of the public can observe this meeting through a You Tube livestream. The link is https://youtu.be/3qY4Jf5RAvY. Information about meeting updates is available from the NSB website at https://www.nsf.gov/nsb/meetings/index.jsp#up.

Chris Blair,
Executive Assistant to the National Science Board Office.

[FR Doc. 2022-07148 Filed 3-31-22; 4:15 pm]

BILLING CODE 7555-01-P